DEPARTMENT OF HOMELAND SECURITY

Coast Guard

33 CFR Part 100

[CGD09-07-052]

RIN 1625-AA08

Special Local Regulations for Marine Events; Port Huron to Mackinac Island Race

AGENCY: Coast Guard, DHS.

ACTION: Notice of enforcement of regulation.

SUMMARY: The Coast Guard will enforce Special Local Regulations for the Port Huron to Mackinac Island Race. This action is necessary to safely control vessel movements in the vicinity of the race and provide for the safety of the general boating public and commercial shipping. During this period, no person or vessel may enter the regulated area without the permission of the Coast Guard Patrol Commander.

DATES: Effective July 21, 2007 at 11 a.m. to July 24, 2007 at 11:59 p.m.

FOR FURTHER INFORMATION CONTACT: Mr. Frank Jennings, Jr., Enforcement Branch, Ninth Coast Guard District, 1240 East 9th Street, Cleveland, OH at (216) 902-6095.

SUPPLEMENTARY INFORMATION: We are publishing this document to provide notice that under the provisions of 33 CFR 100.901, the Port Huron to Mackinac Race Special Local Regulations will be enforced from 11 a.m. on July 21, 2007 to 11:59 p.m. on July 24, 2007. The Special Local Regulations apply to the waters of the Black River, St. Clair River and lower Lake Huron from:

Latitude | Longitude
42[deg]58.8[min] N | 082[deg]26[min] W, to
42[deg]58.4[min] N | 082[deg]24.8[min] W,
thence
northward along the International Boundary to
43[deg]02.8[min] N | 082[deg]23.8[min] W, to
43[deg]02.8[min] N | 082[deg]26.8[min] W,
thence
southward along the U.S. shoreline to
42[deg]58.9[min] N | 082[deg]26[min] W,
thence to
42[deg]58.8[min] N | 082[deg] 26[min] W.

In order to ensure the safety of spectators and participating vessels, the Special Local Regulations will be enforced for the duration of the event. The Coast Guard will patrol the race area under the direction of a designated Coast Guard Patrol Commander. Vessels desiring to transit the regulated area may do so only with prior approval of the Patrol Commander and when so directed by that officer. The Patrol Commander may be contacted on Channel 16 (156.8 MHZ) by the call sign “Coast Guard Patrol Commander.” Vessels not participating in the race shall not make a wake nor endanger participants in the event or any other craft. Vessels participating in the race and patrol craft may create a wake but shall not endanger other vessels and are not required to check-in nor out with the Patrol Commander while participating in the race.

In the event these Special Local Regulations affect shipping, commercial vessels may request permission from the Patrol Commander to transit the area of the event by hailing call sign “Coast Guard Patrol Commander” on Channel 16 (156.8 MHZ).

Dated: June 22, 2007.
John E. Crowley, Jr.,
Rear Admiral, U.S. Coast Guard, Commander, Ninth Coast Guard District.

[FR Doc. E7-13020 Filed 7-3-07; 8:45 am]

BILLING CODE 4910-15-P